DEPARTMENT OF TRANSPORTATION

Federal Aviation Administration

Notice of Intent To Rule on Request for Disposal of 5.1 Acres of Land at Dillant-Hopkins Airport, Swanzey, NH

AGENCY: Federal Aviation Administration (FAA), DOT.

ACTION: Request for public comments.

SUMMARY: Notice is being given that the FAA is considering a request from the City of Keene, NH to dispose of 5.1 acres of land Dillant-Hopkins Airport, Swanzey, NH. The notice is required under the 2018 FAA Reauthorization Act, Airport Improvement Program. The land is not required for aeronautical use. Given its location, the disposal of land will not affect existing or future aviation development at the airport. An avigation easement will be placed on the property to ensure conformance with airport airspace requirements. The regulations require that 90% of the proceeds be reinvested in federal grant program. The remaining 10% will be placed in the airport's operating and maintenance fund.

DATES: Comments must be received on or before June 14, 2021.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on May 6, 2021.
Julie Seltsam-Wilps,
Deputy Director.

[FR Doc. 2021-09994 Filed 5-13-21; 8:45 am]

BILLING CODE P